FEDERAL COMMUNICATIONS COMMISSION

47 CFR Part 95

[WT Docket No. 01-339; RM-10070; FCC 03-26]

Garmin International, Inc.

AGENCY: Federal Communications Commission.

ACTION: Final rule.

SUMMARY: In this document the Federal Communications Commission (FCC) amends its rules to permit Family Radio Service (FRS) units to transmit global positioning system (GPS) location information using emission type F2D in a digital burst of not more than one second, and to permit brief text messaging between FRS units. With the exception of automatically responding to interrogation requests spaced less than 30 seconds apart, an FRS unit shall limit transmission of digital data containing location information, requesting location information from any other FRS unit, or containing any brief text message to another FRS unit, to no more than once within any thirty-second period. The amendment will better serve the public interest by allowing FRS units equipped to transmit location information utilizing GPS technology and permit communication between FRS units through the use of brief text messaging. Equipped with GPS, an enhanced unit can be used to locate a lost family or group member in the woods, or at an amusement park. FRS units capable of transmitting brief text messages will likely reduce channel congestion and increase the usefulness of the service.

DATES: Effective April 2, 2003.

FOR FURTHER INFORMATION CONTACT: Ms. Jeannie Benfaida, Public Safety and Private Wireless Division, Wireless Telecommunications Bureau, (202) 418-0680, TTY (202) 418-7233, or via E-mail at jbenfaid@fcc.gov.

SUPPLEMENTARY INFORMATION: This is a summary of the FCC's Report and Order, FCC 03-26, adopted on February 3, 2003, and released on February 10, 2003. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

1. On December 20, 2001, we proposed to amend §§ 95.193(a), 95.193(b), and 95.631(d) of our Rules to revise the scope of permissible communications and emission types for FRS units. We initiated this proceeding in response to a petition filed by Garmin International, Inc. (Garmin), requesting that FRS units be allowed to transmit GPS location information using emission type F2D in a digital data burst of not more than one second. For the reasons explained further, we are revising our FRS rules to modify the authorized emission types and permissible communications to allow a new and incidental use of the FRS. We believe that permitting the transmission of location information and text messages over FRS channels will benefit the public.

Procedural Matters

1. Final Regulatory Flexibility Certification. The Regulatory Flexibility Act of 1980, as amended (RFA), requires that an initial regulatory flexibility analysis be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

2. In this Report and Order, we authorize an individual to use a FRS unit to satisfy his or her need for non-voice communications for the purpose of providing information about the location of the FRS unit to other FRS units or transmitting text messages. The revised rules apply exclusively to individuals who use FRS units. The modifications are in the public interest because they would allow the public to take advantage of technological developments in equipment and service that have occurred since the authorization of the FRS, availability of equipment at reasonable prices, and the removal of Selective Availability from the GPS signal.

3. In addition, the rules modified in this Report and Order affect manufacturers of FRS units. Based on requests from manufacturers for certification of FRS units, we believe that there are between five and ten manufacturers of FRS units, and that none of these manufacturers are small entities. The rule change applies to individuals who use FRS units and does not result in a mandatory change in manufactured FRS units. Rather, the rule changes are permissive and would allow a manufacturer, if it so chooses, to include additional features in the FRS units it manufactures. Therefore, we certify that the modification in this Report and Order will not have a significant economic impact on a substantial number of small entities. The FCC will send a copy of the Report and Order, including a copy of this Final Regulatory Flexibility Certification, in a report to Congress pursuant to the Congressional Review Act. In addition, the Report and Order and this final certification will be sent to the Chief Counsel for Advocacy of the SBA, and will be published in the Federal Register.

4. Paperwork Reduction Analysis. This Report and Order does not contain any new or modified information collection. Therefore it is not subject to the requirements for a paperwork reduction analysis, and the FCC has not performed one.

Ordering Clauses

5. Pursuant to sections 4(i), 4(j), and 303(r) of the Communications Act of 1934, as amended, 47 U.S.C. 154(i), 154(j), and 303(r), that sections 95.193(a), 95.193(b), and 95.631(d) of the FCC's rules, 47 CFR 95.193(a), 95.193(b), and 95.631(d), are amended as set forth, effective April 2, 2003.

6. The FCC's Consumer and Governmental Affairs Bureau, Reference Information Center, shall send a copy of this Report and Order, including the Final Regulatory Flexibility Certification, to the Chief Counsel for Advocacy of the Small Business Administration.

7. This proceeding is terminated.

List of Subjects in 47 CFR Part 95

Communications equipment, Radio, Reporting and recordkeeping requirements.

Federal Communications Commission.
Marlene H. Dortch,
Secretary.

Rule Changes

For the reasons discussed in the preamble the FCC amends 47 CFR part 95 as follows:

PART 95—PERSONAL RADIO SERVICE

1. The authority citation for part 95 continues to read as follows:

Authority: Sections 4, 303, 48 Stat. 1066, 1082 as amended; 47 U.S.C. 154, 303.

2. Section 95.193 is amended by revising paragraphs (a) and (b) to read as follows:

§ 95.193 (FRS Rule 3) Types of communications.

(a) You may use an FRS unit to conduct two-way voice communications with another person. You may use an FRS unit to transmit one-way voice or non-voice communications only to establish communications with another person, send an emergency message, provide traveler assistance, provide location information, transmit a brief text message, make a voice page, or to conduct a brief test.

(b) Non-voice communications. (1) The FRS unit may transmit tones to make contact or to continue communications with a particular FRS unit. If the tone is audible (more than 300 Hertz), it must be transmitted continuously no longer than 15 seconds at one time. If the tone is subaudible (300 Hertz or less), it may be transmitted continuously only while you are talking.

(2) The FRS unit may transmit digital data containing location information, or requesting location information from one or more other FRS units, or containing a brief text message to another specific FRS unit. Digital data transmissions must be initiated by a manual action or command of a user, except that an FRS unit receiving an interrogation request may automatically respond with its location. Digital data transmissions shall not exceed one second, and shall be limited to no more than one digital transmission within a thirty-second period, except that an FRS unit may automatically respond to more than one interrogation request received within a thirty-second period.

* * * * *

3. Section 95.194 is amended by adding paragraph (d) to read as follows:

§ 95.194 (FRS Rule 4) FRS Units.

* * * * *

(d) FRS units are prohibited from transmitting data in store-and-forward packet operation mode.

4. Section 95.401 is amended by revising the paragraph (b) as follows:

§ 95.401 (CB Rule 1) What are the Citizen Band Radio Services?

* * * * *

(b) The Family Radio Service (FRS)—a private, two-way, very short-distance voice and data communications service for facilitating family and group activities. The rules for this service are contained in subpart B of this part.

* * * * *

5. Section 95.631 is amended by revising paragraph (d) to read as follows:

§ 95.631 Emission types.

* * * * *

(d) An FRS unit may transmit only emission type F3E or F2D. A non-voice emission is limited to selective calling or tone-operated squelch tones to establish or continue voice communications, digital data transmission of location information or text messaging.

* * * * *

4. Section 95.633 is amended by revising paragraph (c) to read as follows:

§ 95.633 Emission bandwidth.

* * * * *

(c) The authorized bandwidth for emission type F3E or F2D transmitted by a FRS unit is 12.5 kHz.

* * * * *

[FR Doc. 03-4869 Filed 2-28-03; 8:45 am]

BILLING CODE 6712-01-P